FEDERAL COMMUNICATIONS COMMISSION

47 CFR Part 73

[DA 00-585; MM Docket No. 99-283; RM-9711]

Radio Broadcasting Services; Hays, KS

AGENCY: Federal Communications Commission.

ACTION: Final rule.

SUMMARY: This document allots Channel 289C2 to Hays, Kansas, as that community's third local FM transmission service in response to a petition for rule making filed on behalf of Gatoradio Media Group, Inc. See 64 FR 51286, September 22, 1999. Coordinates used for Channel 289C2 at Hays, Kansas, are 38-57-15 NL and 99-26-43 WL. With this action, the proceeding is terminated.

DATES: Effective May 1, 2000. A filing window for Channel 289C2 at Hays, Kansas, will not be opened at this time. Instead, the issue of opening a filing window for this channel will be addressed by the Commission in a subsequent Order.

FOR FURTHER INFORMATION CONTACT: Nancy Joyner, Mass Media Bureau, (202) 418-2180.

SUPPLEMENTARY INFORMATION: This is a synopsis of the Commission's Report and Order, MM Docket No. 99-283, adopted March 8, 2000, and released March 17, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of Title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Kansas, is amended by adding Channel 289C2 at Hays.

Federal Communications Commission.
John A. Karousos,
Chief, Allocations Branch, Policy and Rules Division, Mass Media Bureau.

[FR Doc. 00-7824 Filed 3-30-00; 8:45 am]

BILLING CODE 6712-01-P